DEPARTMENT OF ENERGY

Federal Energy Regulatory Commission

[Docket No. RP00-432-000]

Texas Transmission Corporation; Notice of Proposed Changes in FERC Gas Tariff

August 10, 2000.

Take notice that on August 4, 2000, Texas Gas Transmission Corporation (Texas Gas) tendered for filing as part of its FERC Gas Tariff, First Revised Volume No. 1, the following tariff sheets to become effective March 27, 2000:

Second Revised Sheet No. 194

Third Revised Sheet No. 196

Fifth Revised Sheet No. 198

Fifth Revised Sheet No. 204A

This filing is being submitted to modify Texas Gas's tariff in compliance with Section 284.8(i) of the Commission's regulations promulgated in Order Nos. 637 and 637-A. Section 284.8(i) waives, for capacity release transactions of less than one year, until September 30, 2002, the maximum rate ceiling which would otherwise apply to those transactions. Order No. 637 requires pipelines to file by August 7, 2000, to remove any tariff provisions inconsistent with this waiver. Accordingly the tariff sheets submitted herewith modify Section 25 of the General Terms and Conditions of Texas Gas FERC Gas Tariff consistent with this temporary waiver of the price cap in Section 248.8(i) of the Commission's regulations.

Copies of the revised tariff sheets are being mailed to Texas Gas's jurisdictional customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-20755 Filed 8-15-00; 8:45 am]

BILLING CODE 6717-01-M